NUCLEAR REGULATORY COMMISSION

Advisory Committee on Reactor Safeguards (ACRS); Meeting of the Subcommittee on Digital Instrumentation and Control Systems; Notice of Meeting

The ACRS Subcommittee on Digital Instrumentation and Control Systems (DI&C) will hold a meeting on August 19-21, 2009, in the Commission Hearing Room, 11555 Rockville Pike, Rockville, Maryland.

The entire meeting will be open to public attendance.

The agenda for the subject meeting shall be as follows:

Wednesday, August 19, 2009, 8:30 a.m.-5 p.m.

Thursday, August 20, 2009, 8:30 a.m.-5 p.m.

Friday, August 21, 2009, 8:30 a.m.-3 p.m.

The Subcommittee will hear presentations by and hold discussions with representatives of the NRC staff and the industry regarding several digital instrumentation and control systems issues: the Digital Instrumentation and Control Plan 2010-2013, Interim Staff Guidances (ISGs) on fuel facilities and licensing process, EPRI reports on operating experience and Diverse Actuation Systems Risk and Benefits, and other DI&C related topics. The Subcommittee will gather information, analyze relevant issues and facts, and formulate proposed positions and actions, as appropriate, for deliberation by the full Committee.

Members of the public desiring to provide oral statements and/or written comments should notify the Designated Federal Official, Ms. Christina Antonescu (telephone: 301-415-6792, e-mail: cea1@nrc.gov), five days prior to the meeting, if possible, so that appropriate arrangements can be made. Thirty five hard copies of each presentation or handout should be provided to the Designated Federal Official 30 minutes before the meeting. In addition, one electronic copy of each presentation should be e-mailed to the Designated Federal Official 1 day before the meeting. If an electronic copy cannot be provided within this timeframe, presenters should provide the Designated Federal Official with a CD containing each presentation at least 30 minutes before the meeting. Electronic recordings will be permitted only during those portions of the meeting that are open to the public. Detailed procedures for the conduct of and participation in ACRS meetings were published in the Federal Register on October 6, 2008, (73 FR 58268-58269).

Further information regarding this meeting can be obtained by contacting the Designated Federal Official (DFO) between 8:45 a.m. and 5:30 p.m. (ET). Persons planning to attend this meeting are urged to contact the DFO at least two working days prior to the meeting to be advised of any potential changes to the agenda.

Dated: July 14, 2009.
Antonio F. Dias,
Chief, Reactor Safety Branch B, Advisory Committee on Reactor Safeguards.

[FR Doc. E9-17290 Filed 7-20-09; 8:45 am]

BILLING CODE 7590-01-P